DEPARTMENT OF TRANSPORTATION

Federal Aviation Administration

Notice of Availability of the Final Environmental Assessment and Finding of No Significant Impact/Record of Decision for the Huntsville International Airport Reentry Site Operator License and Sierra Space Corporation Vehicle Operator License

AGENCY: Federal Aviation Administration (FAA), Department of Transportation (DOT).

ACTION: Notice of availability.

SUMMARY: In accordance with the National Environmental Policy Act of 1969, as amended (NEPA), Council on Environmental Quality NEPA implementing regulations, and FAA Order 1050.1F, Environmental Impacts: Policies and Procedures, the FAA is announcing the availability of the Final Environmental Assessment and Finding of No Significant Impact/Record of Decision for the Huntsville International Airport Reentry Site Operator License and Sierra Space Corporation Vehicle Operator License (Final EA and FONSI/ROD).

FOR FURTHER INFORMATION CONTACT: Amy Hanson, Environmental Protection Specialist, Federal Aviation Administration, 800 Independence Avenue SW, Suite 325, Washington, DC 20591; email HuntsvilleReentry@icf.com.

SUPPLEMENTARY INFORMATION: The FAA is the lead agency responsible for completing the EA. The National Aeronautics and Space Administration (NASA) and U.S. Coast Guard (USCG) are cooperating agencies for the EA for the Huntsville International Airport Reentry Site Operator License and Sierra Space Corporation Vehicle Operator License due to their special expertise and jurisdictions. The FAA evaluated (1) the Huntsville-Madison County Airport Authority's (Authority) proposal to operate a commercial reentry site at Huntsville International Airport, which would require the FAA to issue a Reentry Site Operator License, and (2) Sierra Space Corporation's (Sierra Space) proposal to land the Dream Chaser at Huntsville International Airport, which would require the FAA to issue a Vehicle Operator License. Issuing a Reentry Site Operator License and Vehicle Operator License are considered Federal actions subject to environmental review under NEPA. Under the Proposed Action, the FAA would issue a Reentry Site Operator License to the Authority and a Vehicle Operator License to Sierra Space to land the Dream Chaser at Huntsville International Airport.

The Final EA evaluated the potential environmental impacts of the Proposed Action and the No Action Alternative. Under the No Action Alternative, the FAA would not issue a Reentry Site Operator License to the Authority, nor would the FAA issue a Vehicle Operator License to Sierra Space for landing the Dream Chaser at Huntsville International Airport. Sierra Space's Dream Chaser reentry operations would not occur at Huntsville International Airport and Huntsville International Airport would not offer its site for commercial space reentries.

The FAA published a Draft EA for public review and comment on November 12, 2021 through December 22, 2021. The FAA received 40 public comments on the Draft EA. The FAA posted the Final EA and FONSI/ROD on the FAA Office of Commercial Space Transportation website on May 12, 2022, linked here: https://www.faa.gov/space/stakeholder_engagement/huntsville_reentry/.

The FAA's ROD contains the agency's decision to approve the Proposed Action, and includes numerous finding and determinations pursuant to Executive Orders and special purpose laws, including the Department of Transportation Act, the National Historic Preservation Act, the Clean Air Act, the Clean Water Act, and the Endangered Species Act.

Issued in Washington, DC, on: June 15, 2022.
Stacey Molinich Zee,
Manager, Operations Support Branch, Office of Commercial Space Transportation.

[FR Doc. 2022-13396 Filed 6-22-22; 8:45 am]

BILLING CODE 4910-13-P